DEPARTMENT OF TRANSPORTATION

Surface Transportation Board

[STB Finance Docket No. 33885]

CSX Transportation, Inc.—Trackage Rights Exemption—Norfolk Southern Railway Company, and The Cincinnati, Texas and New Orleans Railway Company

Norfolk Southern Railway Company (NS) and The Cincinnati, Texas and New Orleans Railway Company (CNO&TP) ¹ have agreed to grant overhead trackage rights to CSX Transportation, Inc. (CSXT). The trackage rights to be acquired are described as follows: from the connection of CSXT and NS at the east leg of the wye of the NS main track at Harriman, TN (milepost 49.6D), to the turnout of milepost 50.3D/milepost 166.0H, near Devonia Street, in Harriman, to the connection with the CNO&TP main line at milepost 259.1, thence over the CNO&TP to the connection with trackage owned by the Tennessee Valley Authority (TVA), at milepost 260.8, at or near Emory Gap, TN, a distance of approximately 3.7 miles.

¹ CNO&TP is a subsidiary of NS.

The transaction is scheduled to be consummated on September 13, 2000.

The primary purpose of the trackage rights is to allow CSXT to provide direct rail service for TVA of bituminous and sub-bituminous coal shipments that terminate at TVA's Kingston Fossil Plant near Emory Gap.

As a condition to this exemption, any employees affected by the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If it contains false or misleading information, the exemption is void ab initio. Petitions to revoke the exemption under 49 U.S.C. 10502(d) may be filed at any time. The filing of a petition to revoke will not automatically stay the transaction.

An original and 10 copies of all pleadings, referring to STB Finance Docket No. 33885, must be filed with the Surface Transportation Board, Office of the Secretary, Case Control Unit, 1925 K Street, N.W., Washington, DC 20423-0001. In addition, one copy of each pleading must be served on John W. Humes, Jr., Esq., CSX Transportation, Inc., 500 Water Street (J150), Jacksonville, FL 32292.

Board decisions and notices are available on our website at “WWW.STB.DOT.GOV.”

Decided: September 11, 2000.
By the Board, David M. Konschnik, Director, Office of Proceedings.
Vernon A. Williams,
Secretary.

[FR Doc. 00-23769 Filed 9-18-00; 8:45 am]

BILLING CODE 4915-00-P